DEPARTMENT OF HEALTH AND HUMAN SERVICES

Indian Health Service

Request for Public Comment: 30-Day Notice for Extension of Fast Track Generic Clearance for the Collection of Qualitative Feedback on Agency Service Delivery: IHS Customer Service Satisfaction and Similar Surveys

AGENCY: Indian Health Service, HHS.

ACTION: Notice and request for comments. Request for extension of approval.

SUMMARY: As part of a Federal Government-wide effort to streamline the process to seek feedback from the public on service delivery, Indian Health Service (IHS) has submitted a Generic Information Collection Request (Generic ICR): “Generic Clearance for the Collection of Qualitative Feedback on Agency Service Delivery: IHS Customer Service Satisfaction and Similar Surveys” to the Office of Management and Budget (OMB) for approval under the Paperwork Reduction Act (PRA) (44 U.S.C. 3501 et. seq.).

DATES: Comments must be submitted June 11, 2015.

Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Tamara Clay by one of the following methods:

• Mail: Tamara Clay, Information Collection Clearance Officer, Indian Health Service 801 Thompson Avenue, TMP, STE 450-30, Rockville, MD 20852.

• Phone: 301-443-4750.

• Email: Tamara.Clay@ihs.gov.

• Fax: 301-443-4750.

SUPPLEMENTARY INFORMATION:

Title: OMB Control No. 0917-0036, Fast Track Generic Clearance for the Collection of Qualitative Feedback on Agency Service Delivery: IHS Customer Service Satisfaction and Similar Surveys. Abstract: The IHS will be engaging in information collection activities that will garner qualitative customer and stakeholder feedback in an efficient, timely manner, in accordance with the Administration's commitment to improving service delivery within Federal Agencies. Qualitative feedback is information that provides useful insights on perceptions and opinions, but are not statistical surveys that yield quantitative results that can be generalized to the population of study. This feedback will provide insight into customer or stakeholder perceptions, opinions, experiences and expectations, and provide an early warning of issues with service. Also, the collection of qualitative feedback will assist IHS to focus its attention on areas where communication, training, or changes in operations might improve delivery of products or services. These collections will allow for ongoing, collaborative and actionable communications between the Agency and its customers and stakeholders. Furthermore, the collection activity will allow feedback to contribute directly to the improvement of program management.

Feedback or information collected under this generic clearance will provide useful information, but it will not yield data that can be generalized to the overall population. This type of generic clearance for qualitative collection will not be used for quantitative information collections that are designed to yield reliably actionable results, such as monitoring trends over time or documenting program performance. Such data uses require more rigorous designs that address: The target population to which generalizations will be made, sampling frame, sample design (including stratification and clustering), precision requirements or power calculations that justify the proposed sample size, the expected response rate, methods for assessing potential non-response bias, protocols for data collection, and any testing procedures that were or will be undertaken prior fielding the study. Depending on the degree of influence the results are likely to have, such collections may still be eligible for submission for other generic mechanisms that are designed to yield quantitative results.

The Agency received zero (0) comments in response to the 60-day notice published in the Federal Register of March 2, 2015 (80 FR 11206).

Below are provided Indian Health Services projected average estimates for the next three years: ¹

¹ The 60-day notice included the following estimate of the aggregate burden hours for this generic clearance for IHS federal-wide:

Average expected annual number of activities: 100.

Average number of respondents per activity: 1,050.

Annual responses: 105,000.

Frequency of response: Once per request.

Average minutes per response: 10.

Burden hours: 17,500.

Current Actions: Extension of approval for a collection of information.

Type of Review: Extension.

Affected Public: Individuals and households, businesses and organizations, and Tribal Government.

Average expected annual number of activities: 100.

Respondents: 105,000.

Annual responses: 105,000.

Frequency of response: Once per request.

Average minutes per response: 10.

Burden hours: 17,500.

An agency may not conduct or sponsor, and a person is not required to respond to, a collection of information unless it displays a currently valid OMB control number.

Dated: May 4, 2015.
Robert G. McSwain,
Acting Director, Indian Health Service.

[FR Doc. 2015-11364 Filed 5-11-15; 8:45 am]

BILLING CODE 4160-16-P